DEPARTMENT OF AGRICULTURE

National Agricultural Library

Notice of Intent To Seek Approval To Collect Information

AGENCY: National Agricultural Library, USDA, Agricultural Research Service.

ACTION: Notice and request for comments.

SUMMARY: In accordance with the Paperwork Reduction Act of 1995 (Pub. L. 104-13) and Office of Management and Budget (OMB) regulations at 5 CFR part 1320 (60 FR 44978, August 29, 1995), this notice announces the National Agricultural Library's intent to request approval for a new information collection from the Food Safety Training and Education Alliance (FSTEA). This voluntary question form would allow FSTEA's external customers, who are primarily food safety trainers and educators, to ask questions and get answers regarding food safety training and education in the retail or foodservice sector. This form will assist FSTEA in providing a valuable service to its customers.

DATES: Comments on this notice must be received by June 3, 2002 to be assured of consideration.

ADDRESSES: Address all comments and questions concerning this notice to: Jimmy C. Liu, Food Safety Information Specialist, National Agricultural Library, 10301 Baltimore Avenue, Room 105, Beltsville, MD 20705-2351, 301-504-5840 301-504-6409. Submit electronic comments to jliu@nal.usda.gov.

SUPPLEMENTARY INFORMATION: Title: Ask An Expert (Food Safety Training and Education Alliance).

OMB Number: Not yet assigned.

Expiration Date: N/A.

Type of Request: Approval for new data collection from food safety educators and trainers.

Abstract:The collection of information using a voluntary question form will provide the Food Safety Training and Education Alliance (FSTEA) customers an opportunity to ask questions pertaining to food safety training and education in the retail or foodservice sector. Knowledgeable experts in the field will then answer the questions. The contribution form consists of one document comprised of 12 inquiry components. Some of these components include standard contact information, subject, and a field for the question itself.

Estimate of Burden: Public reporting burden for this collection of information is estimated to average 0.05 hours per response.

Respondents: Respondents will be food safety educators or trainers, primarily those working in the retail or foodservice sector.

Estimated Number of Respondents: 40 per year.

Estimated Total Annual Burden on Respondents: 2.0 hours.

Comments

Comments are invited on (a) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to this notice will be summarized and included in the request for Office of Management and Budget (OMB) approval. All comments will become a matter of public record.

Dated: March 8, 2002.
Caird E. Rexroad,
Associate Deputy Administrator.

[FR Doc. 02-7468 Filed 3-27-02; 8:45 am]

BILLING CODE 3410-03-P